DEPARTMENT OF THE INTERIOR

National Park Service

[NPS-PWRO-TUSK-34140; PPPWTUSK00, PPMPSPD1Z.YM0000]

Tule Springs Fossil Beds National Monument Advisory Council Notice of Public Meeting

AGENCY: National Park Service, Interior.

ACTION: Meeting notice.

SUMMARY: In accordance with the Federal Advisory Committee Act, the National Park Service is hereby giving notice that the Tule Springs Fossil Beds National Monument Advisory Council (Council) will meet as indicated below.

DATES: The meeting will be held on Wednesday, November 16, 2022, at 5:00 p.m. until 7:00 p.m. (PACIFIC).

ADDRESSES: The meeting will be held in person at the State Park Nevada—Southern Nevada Office at 4747 Vegas Dr., Las Vegas, Nevada 89108. Individuals that prefer to participate virtually must contact the person listed in the (FOR FURTHER INFORMATION CONTACT) section at least five (5) business days prior to the meeting. The format and/or location of the meeting are subject to change depending on local health restrictions or mandates.

Written comments can be submitted by mail to Jeff Axel, Acting Superintendent, Tule Springs Fossil Beds National Monument, 601 Nevada Way, Boulder City, NV 89005, or by email jeff_axel@nps.gov.

FOR FURTHER INFORMATION CONTACT: Further information concerning the meeting may be obtained from Christa Johnston, Public Affairs Officer, Lake Mead National Recreation Area, 601 Nevada Way, Boulder City, Nevada 89005, via telephone at (702) 293-8691, or email at christa_johnston@nps.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Council was established pursuant to section 3092(a)(6) of Public Law 113-291 and in accordance with the provisions of the Federal Advisory Committee Act (5 U.S.C. Appendix 1-16). The purpose of the Council is to advise the Secretary of the Interior with respect to the preparation and implementation of the management plan.

Purpose of the Meeting: The Council agenda will include:

1. Minutes Review

2. Superintendent Updates will include:

General Management Plan—Update of Civic Engagement & Stakeholder Meetings for General Management Plan

3. Resource Management Updates

4. Old Business

5. New Business

6. Public Comments

The meeting is open to the public. Interested persons may make oral or written presentations to the Council during the business meeting or file written statements. Requests to address the Council should be made to the Superintendent prior to the meeting. Members of the public may submit written comments by mailing them to Jeff Axel, Acting Superintendent, Tule Springs Fossil Beds National Monument, 601 Nevada Way, Boulder City, NV 89005, or by email jeff_axel@nps.gov. All written comments will be provided to members of the Council. Due to time constraints during the meeting, the Council is not able to read written public comments submitted into the record. Depending on the number of people who wish to speak and the time available, the time for individual comments may be limited.

Meeting Accessibility/Special Accommodations: The meeting is open to the public. Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. appendix 2.

Alma Ripps,
Chief, Office of Policy.

[FR Doc. 2022-21055 Filed 9-28-22; 8:45 am]

BILLING CODE P